DEPARTMENT OF TRANSPORTATION

Federal Motor Carrier Safety Administration

[Docket No. FMCSA-2013-0518]

Knowledge Testing of New Entrant Motor Carriers, Freight Forwarders and Brokers

AGENCY: Federal Motor Carrier Safety Administration (FMCSA), DOT.

ACTION: Notice of public listening sessions.

SUMMARY: FMCSA announces that it will hold two public listening sessions on March 28 and April 7, 2014, to solicit ideas and information concerning sections 32101 and 32916 of the Moving Ahead for Progress in the 21st Century Act. These provisions require the assessment of applicants' knowledge of regulations and industry practices for persons seeking registration authority as motor carriers [property, passenger, and household goods (HHG)], freight forwarders, and brokers. These listening sessions are the second and third in a series through which the Agency requests information from interested parties concerning potential test topics, the relationship between the knowledge testing requirement and the Agency's Unified Registration System (URS) program, and test development and delivery. The sessions will be held at the Mid America Trucking Show (MATS) in Louisville, KY, and the Commercial Vehicle Safety Alliance (CVSA) Workshop in Los Angeles, CA. The previous session was held on January 13, 2014, at the American Bus Association's (ABA) Marketplace conference in Nashville, TN. All comments will be transcribed and placed in the docket referenced above for FMCSA's consideration. The entire days' proceedings are open to the public and will be Webcast with an opportunity provided for on-line comments.

DATES: The listening sessions will be held on Friday, March 28 and Monday, April 7, 2014, from 10:00 to 11:30 a.m. and 1:00 to 3:30 p.m., local time. If all interested participants have had an opportunity to comment, the session may conclude early.

ADDRESSES: The listening sessions will be held at the following locations: Friday, March 28, Kentucky Exposition Center, Louisville, KY, Kentucky Exposition Center, 937 Phillips Lane, Louisville, KY 40209, 502-367-5000, in Room C103; and Monday, April 7, The Westin Bonaventure Hotel & Suites, 404 South Figueroa Street, Los Angeles, CA 90071, (213) 624-1000, in the Beaudry Room on the Lobby Level. In addition to attending the session in person, the Agency offers several ways to provide comments, as enumerated below.

Internet Address for Live Webcast

FMCSA will post specific information on how to participate via the Internet on the FMCSA Web site at www.fmcsa.dot.gov in advance of the listening session. You may submit comments bearing the Federal Docket Management System (FDMS) Docket ID FMCSA-2001-11061 using any of the following methods:

• Federal eRulemaking Portal: Go to www.regulations.gov. Follow the on-line instructions for submitting comments.

• Mail: Docket Management Facility; U.S. Department of Transportation, 1200 New Jersey Avenue SE., West Building, Ground Floor, Room W12-140, Washington, DC 20590-0001.

• Hand Delivery or Courier: West Building Ground Floor, Room W12-140, 1200 New Jersey Avenue SE., Washington, DC, between 9 a.m. and 5 p.m., ET, Monday through Friday, except Federal Holidays.

• Fax: 1-202-493-2251.

Each submission must include the Agency name and the docket number for this notice. Note that DOT posts all comments received, without change, to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The online Federal document management system is available 24 hours each day, 365 days each year. If you would like acknowledgment that the Agency received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System published in the Federal Register on December 29, 2010 (75 FR 82132).

FOR FURTHER INFORMATION CONTACT: For information concerning the listening sessions or the live webcasts, please contact Ms. Shannon L. Watson, Senior Policy Advisor, FMCSA, at Shannon.Watson@dot.gov or (202) 385-2395. If you need sign language assistance to participate, contact Ms. Watson by Wednesday, March 19, and Tuesday, April 1, 2014, respectively, to allow us to arrange for such services. FMCSA cannot guarantee that interpreter services requested on short notice will be provided.

SUPPLEMENTARY INFORMATION:

I. Background

On July 6, 2012, the President signed MAP-21 into law. The new law included certain requirements concerning the registration of motor carriers [property, passenger, and household goods (HHG)], freight forwarders, and brokers. Section 32101 of MAP-21 includes requirements for a written proficiency examination to assess motor carrier registration applicants' knowledge of applicable safety regulations, standards, and orders of the Federal government. Section 32916 includes requirements that applicants for freight forwarder and broker registration authority employ, as an officer, an individual with 3 years of relevant experience who “provides the Secretary with satisfactory evidence of the individuals' knowledge of related rules, regulations, and industry practices.”

In consideration of the MAP-21 requirements, the Agency believes that conducting this series of public listening sessions will provide all interested parties the opportunity to share their views on the subject prior to the initiation of a rulemaking. The Agency requests information concerning: Potential test topics (e.g., regulations and industry best practices); the relationship between the knowledge testing requirement and the Agency's August 23, 2013, Unified Registration System (URS) final rule (78 FR 52608);¹ and test development and delivery.

¹ The final rule amends FMCSA's regulations to require interstate motor carriers, freight forwarders, brokers, intermodal equipment providers, hazardous materials safety permit applicants, and cargo tank facilities under the Agency's jurisdiction to submit required registration and biennial update information to the Agency via a new electronic online URS. The final rule also establishes fees for the registration system, discloses the cumulative information to be collected in the URS, and provides a centralized cross-reference to existing safety and commercial regulations necessary for compliance with the registration requirements.

FMCSA asks listening session participants to consider the following questions in preparing to make comments at the listening session:

• Should the exam be limited to the applicable FMCSA regulations or include both the regulations and industry best practices?

• If the exam covers industry best practices, what specific best practices should be included on the exam?

• What industry best practices manuals/publications are available for new entrants to study prior to taking a proficiency exam?

• Are private-sector training courses available to teach new entrants industry best practices?

• Should FMCSA limit the exam to company officers or employees responsible for safety and compliance, or should the Agency allow safety consultants to complete the exam on behalf of the new entrant?

• Should the test results be linked to specific individuals identified on the registration application with a requirement that the new entrant entity have a “certified” individual who passed the exam in a position responsible for safety and compliance? And should the new entrant be required to update their registration information whenever these individuals are replaced or reassigned during the new entrant monitoring/oversight period?

• MAP-21 requires freight forwarders and brokers to renew their registration authority every 5 years. Should the new entrant testing rule require a new test (i.e., recertification test) to accompany the freight forwarder or broker renewal application?

• Should the FMCSA develop and deliver the test directly to the new entrant applicants, or should the Agency rely on a private sector entity to handle the testing, with the results being transmitted directly to FMCSA?

• Do private sector companies or organizations currently conduct testing concerning industry best practices?

• Should the testing be conducted at testing centers, or should FMCSA allow on-line testing?

II. Meeting Participation and Information FMCSA Seeks From the Public

The listening session is open to the public. Speakers should try to limit their remarks to 5 minutes. No preregistration is required. Attendees may submit material to the FMCSA staff at the session for inclusion in the public docket referenced at the beginning of this notice.

III. Webcasting of the Listening Session

FMCSA will webcast the listening session on the Internet. Information on how to participate via the Internet will be posted on the FMCSA Web site at www.fmcsa.dot.gov in advance of the listening session. FMCSA will docket the transcripts of the webcast, and a separate transcription of the listening session will be prepared by an official court reporter.

Dated: February 27, 2014.
Larry W. Minor,
Associate Administrator for Policy.

[FR Doc. 2014-05027 Filed 3-7-14; 8:45 am]

BILLING CODE 4910-EX-P